Title 3—

The President

Executive Order 13677 of September 23, 2014

Climate-Resilient International Development

By the authority vested in me as President by the Constitution and the laws of the United States of America, and to safeguard security and economic growth, protect the sustainability and long-term durability of U.S. development work in vulnerable countries, and promote sound decisionmaking and risk management, it is hereby ordered as follows:

Section 1. Policy. The world must reduce greenhouse gas emissions to prevent the most dangerous consequences of climate change. Even with increased efforts to curb these emissions, we must prepare for and adapt to the impacts of climate change. The adverse impacts of climate change, including sea-level rise, increases in temperatures, more frequent extreme precipitation and heat events, more severe droughts, and increased wildfire activity, along with other impacts of greenhouse gas emissions, such as ocean acidification, threaten to roll back decades of progress in reducing poverty and improving economic growth in vulnerable countries, compromise the effectiveness and resilience of U.S. development assistance, degrade security, and risk intranational and international conflict over resources.

Executive Order 13514 of October 5, 2009 (Federal Leadership in Environmental, Energy, and Economic Performance), and Executive Order 13653 of November 1, 2013 (Preparing the United States for the Impacts of Climate Change), established a strong foundation for coordinated and consistent action to incorporate climate-resilience considerations into policies and procedures throughout the Federal Government. Executive departments and agencies (agencies) with international development programs must now build upon the recent progress made pursuant to these orders by systematically factoring climate-resilience considerations into international development strategies, planning, programming, investments, and related funding decisions, including the planning for and management of overseas facilities.

This order requires the integration of climate-resilience considerations into all United States international development work to the extent permitted by law. Dedicated U.S. climate-change adaptation funds are critical to managing the risks posed by climate-change impacts in vulnerable countries. Coping with the magnitude of the consequences of accelerating climate change also requires enhanced efforts across the Federal Government's broader international development work. Consideration of current and future climate-change impacts will improve the resilience of the Federal Government's broader international development programs, projects, investments, overseas facilities, and related funding decisions. The United States will also promote a similar approach among relevant multilateral entities in which it participates.

By taking these steps and more fully considering current and future climate-change impacts, the United States will foster better decision-making processes and risk-management approaches, ensure the effectiveness of U.S. investments, and assist other countries in integrating climate-resilience considerations into their own development planning and implementation. Collectively, these efforts will help to better optimize broader international development work and lead to enhanced global preparedness for and resilience to climate change.

The international climate-resilience actions required by this order complement efforts by the Federal Government to reduce greenhouse gas emissions at home and globally. The more greenhouse gas emissions are reduced, the less need there will be to adapt to the impacts of a changing climate.

Sec. 2. Incorporating Climate Resilience into International Development. (a) Agencies with direct international development programs and investments shall:

(i) incorporate climate-resilience considerations into decisionmaking by:

(A) assessing and evaluating climate-related risks to and vulnerabilities in agency strategies, planning, programs, projects, investments, overseas facilities, and related funding decisions, using best-available climate-change data, tools, and information, including those identified or developed pursuant to sections 3 and 4 of this order; and

(B) as appropriate, adjusting strategies, planning, programs, projects, investments, and related funding decisions, including the planning for and management of overseas facilities, based on such assessments and evaluations;

(ii) collaborate with other agencies to share knowledge, data, tools, information, frameworks, and lessons learned in incorporating climate-resilience considerations into agency strategy, planning, programs, projects, investments, and related funding decisions, including the planning for and management of overseas facilities;

(iii) work with other countries, as appropriate, to identify climate risks and incorporate climate-resilience considerations into their international development assistance efforts;

(iv) when determining how to use resources, support efforts of vulnerable countries to integrate climate-resilience considerations into national, regional, and sectoral development planning and action; and

(v) monitor progress in integrating and promoting climate-resilient development considerations as required by this subsection.

(b) Agencies that participate in multilateral entities and other agencies with representation in multilateral development entities, including multilateral development banks and United Nations organizations, shall, as appropriate:

(i) work to encourage multilateral entities to:

(A) assess and evaluate climate-related risks to and vulnerabilities in their strategies, planning, programs, projects, investments, and related funding decisions, using best-available climate-change data, tools, and information; and

(B) adjust their strategies, planning, programs, projects, investments, and related funding decisions, as appropriate, based on such assessments and evaluations;

(ii) collaborate with multilateral entities and share with agencies and other stakeholders knowledge, data, tools, information, frameworks, and lessons learned from the multilateral entities in incorporating climate-resilience considerations into strategies, planning, programs, projects, investments, and related funding decisions;

(iii) encourage multilateral entities to support efforts of vulnerable countries to integrate climate-resilience considerations into national, regional, and sectoral development planning and action; and

(iv) monitor the efforts of multilateral entities in integrating climate-resilient development considerations as encouraged by this order.

Sec. 3. Enhancing Data, Tools, and Information for Climate-Resilient International Development. Agencies with direct international development programs and investments and those that participate in multilateral entities shall work together with science and security agencies and entities, through the Working Group on Climate-Resilient International Development established in section 4 of this order, to identify and develop, as appropriate, data, decision-support tools, and information to allow the screening for and incorporation of considerations of climate-change risks and vulnerabilities, as appropriate, in strategies, plans, programs, projects, investments, and related funding decisions, including the planning for and management of overseas facilities. In addition, such agencies shall coordinate efforts, including those undertaken pursuant to Executive Order 13653, to deliver information on climate-change impacts and make data, tools, and information available to decisionmakers in other countries, so as to build their capacity as information providers and users. United States participants in relevant multilateral entities shall share this information with the respective multilateral entity, as appropriate.

Sec. 4. Working Group on Climate-Resilient International Development. (a) Establishment. There is established a Working Group on Climate-Resilient International Development (Working Group) of the Council on Climate Preparedness and Resilience (Council) established by Executive Order 13653. The Secretary of the Treasury and the Administrator of the United States Agency for International Development, or their designees, shall co-chair the Working Group. Agencies with direct international development programs and investments, agencies that participate in multilateral entities, and science and security agencies and entities shall designate a representative from their respective agencies or entities to participate in the Working Group. Representatives from other agencies or entities may participate in the Working Group as determined by the Co-Chairs.

(b) Mission and Function.

(i) The Working Group shall:

(A) develop, for agencies with direct international development programs and investments, guidelines for integrating considerations of climate-change risks and climate resilience into agency strategies, plans, programs, projects, investments, and related funding decisions, including the planning for and management of overseas facilities;

(B) assess and identify, for agencies with direct international development programs and investments, existing climate-change data, tools, and information, as described in section 3 of this order, to help agencies assess climate risks and make decisions that incorporate climate-resilience considerations, such as through project screening. To the extent the Working Group identifies needs for new data, tools, and information, it shall work with relevant science and security agencies and entities to advance their development, as appropriate;

(C) identify approaches for adjusting strategies, planning, programs, projects, investments, and related funding decisions, including the planning for and management of overseas facilities, to respond to the findings of climate-risk assessments;

(D) facilitate the exchange of knowledge, data, tools, information, frameworks, and lessons learned in assessing climate risks to and incorporating climate-resilience considerations into strategies, planning, programs, projects, investments, and related funding decisions, including the planning for and management of overseas facilities, of agencies with direct international development programs and investments, including efforts referenced in section 3 of this order;

(E) work through existing channels to share best practices developed by the Working Group with other donor countries and multilateral entities to facilitate advancement of climate-resilient development policies;

(F) promote interagency collaboration, including through joint training; and

(G) develop, for agencies with direct international development programs and investments, methods for tracking and reporting on Federal Government progress in institutionalizing more climate-resilient development approaches, including performance metrics.

(ii) The Co-Chairs of the Council may designate additional Co-Chairs of the Working Group. The Co-Chairs of the Working Group may establish sub-working groups, as appropriate.

Sec. 5. Implementation and Reporting of Progress. (a) Implementation. To promote sustained focus on implementation, both at agency headquarters and in the field, the Working Group shall:

(i) establish a 2-year timeline, divided into 6-month intervals, to implement section 4(b)(i) of this order, setting forth specific goals to be accomplished and milestones to be achieved; and

(ii) analyze, at least annually, the Federal Government's progress in implementing this order and provide recommendations for priority areas for further implementation to the Council, Office of Management and Budget, National Security Council, Council on Environmental Quality, Office of Science and Technology Policy, and other agencies, offices, and entities, as appropriate.

(b) Reporting.

(i) Agencies with direct international development programs and investments shall report on and track progress in achieving the requirements identified in section 2(a) of this order, including accomplished and planned milestones, through the Federal Agency Planning process set forth in section 5 of Executive Order 13653. Once the Working Group has developed metrics and methodologies as required by section 4(b)(i)(G) of this order, agency reporting shall include an estimation of the proportion of each agency's direct international development programs and investments for which climate-risk assessments have been conducted, as well as an estimation of the proportion of the programs and investments for which climate risk was identified and acted upon.

(ii) Agencies that participate in multilateral entities shall report on the efforts of multilateral entities in integrating climate-resilient development considerations into their operations through the Federal Agency Planning process set forth in section 5 of Executive Order 13653. Where more than one agency is involved in the U.S. Government's participation in a multilateral entity, the lead agency for such participation shall be responsible for reporting, in coordination with the other agencies involved.

Sec. 6. Climate-Change Mitigation. As agencies incorporate climate-resilience considerations into international development work, they shall continue seeking opportunities to help international partners promote sustainable low-emissions development. The Federal Government has greatly increased the number and variety of international development initiatives focused on climate-change mitigation, including programs to promote clean energy, energy efficiency, and sustainable land-use and forestry practices, as well as partnerships with more than two dozen countries to formulate and implement sustainable low-emissions development strategies. Within 1 year of the date of this order, and building on the full range of efforts the United States has undertaken to date, the National Security Council shall convene relevant agencies and entities to explore further mitigation opportunities in broader U.S. international development work and develop recommendations for further action.

Sec. 7. Definitions. As used in this order:

(a) “Adaptation” has the meaning provided in section 8(b) of Executive Order 13653: adjustment in natural or human systems in anticipation of or response to a changing environment in a way that effectively uses beneficial opportunities or reduces negative effects;

(b) “Direct international development programs and investments” refers to:

(i) bilateral, regional, and multilateral international development programs and investments over which agencies have primary programmatic and financial management responsibilities; or

(ii) the extension of official financing by agencies bilaterally to private sector investors to support international development;

(c) “Climate-change mitigation” refers to actions that reduce or enhance removals of greenhouse gas emissions;

(d) “Resilience” has the meaning provided in section 8(c) of Executive Order 13653: the ability to anticipate, prepare for, and adapt to changing conditions and withstand, respond to, and recover rapidly from disruptions;

(e) “Agencies with direct international development programs and investments” means the Department of State, Department of Agriculture, Department of the Interior, United States Agency for International Development, Millennium Challenge Corporation, Overseas Private Investment Corporation, United States Trade and Development Agency, and other relevant agencies and entities, as determined by the Working Group Co-Chairs;

(f) “Science and security agencies and entities” means the Department of the Interior, Department of Energy, Office of Science and Technology Policy, National Oceanic and Atmospheric Administration, National Aeronautics and Space Administration, United States Global Change Research Program, Office of the Director of National Intelligence, and other relevant agencies and entities, as determined by the Working Group Co-Chairs; and

(g) “Agencies that participate in multilateral entities” means the Department of the Treasury, Department of State, and other relevant agencies and entities, as determined by the Working Group Co-Chairs.

Sec. 8. General Provisions. (a) Nothing in this order shall be construed to impair or otherwise affect:

(i) the authority granted by law or Executive Order to an executive department, agency, or head thereof; or

(ii) the functions of the Director of the Office of Management and Budget relating to budgetary, administrative, or legislative proposals.

(b) This order shall be implemented consistent with U.S. obligations under international agreements and applicable U.S. law, and shall be subject to the availability of appropriations.

(c) This order is not intended to, and does not, create any right or benefit, substantive or procedural, enforceable at law or in equity by any party against the United States, its departments, agencies, or entities, its officers, employees, or agents, or any other person.

THE WHITE HOUSE,

September 23, 2014.

[FR Doc. 2014-23228

Filed 9-25-14; 11:15 am]

Billing code 3295-F4